DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before February 20, 2024.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on January 3, 2024.
Donald P. Burger,
Chief, General Approvals and Permits Branch.

Special Permits Data
Application No. | Applicant | Regulation(s) affected | Nature of the special permits thereof
21669-N | Versum Materials US, LLC | 173.302a(b)(5) | To authorize the one-time transportation of a cylinder pressurized to 110% of its marked service pressure, similar to DOT SP-6530. (mode 1)
21671-N | PPI Supplies LLC | 171.2(k), Part 172 Subparts C through F and H | To authorize the transportation in commerce of certain used DOT Specification 3AL cylinders that contain carbon dioxide with alternative hazard communication. (mode 1)
21672-N | High Performance Helicopters Corp | 172.101(j) | To authorize the transportation in commerce of gasoline by 14 CFR Part 133 cargo-only aircraft (rotorcraft external load operations) in which hazardous materials are attached to or suspended from the aircraft in remote areas of the U.S. only when other means of transportation are impracticable. (mode 4)
21673-N | Asset Recycling and Recovery LLC | 173.185(f)(1), 173.185(f)(2), 173.185(f)(3) | To authorize the transportation in commerce of lithium batteries in roll-off containers. (mode 1)
21675-N | Zoox, Inc | 173.185(a)(1), 173.220(d) | To authorize the transportation in commerce aboard cargo-only aircraft of battery-powered vehicles containing prototype and low production lithium ion batteries for testing. (mode 4)
21676-N | Anduril Industries, Inc | 172.101(j), 173.185(a)(1) | To authorize the transportation in commerce of prototype lithium ion batteries exceeding 35 kg net weight by cargo-only aircraft. (modes 1, 2, 3, 4)
21677-N | Unipart North America Limited | 172.101(j) | To authorize the transportation in commerce of lithium ion batteries exceeding 35 kg net weight by cargo-only aircraft. (mode 4)
21678-N | Moxion Power Co | 172.102(c)(1) | To authorize the transportation in commerce of lithium ion batteries installed in cargo transport units by cargo-only aircraft. (mode 4)
21681-N | Applied Energy Systems, Inc | 172.101(j), 173.187, 173.212, 173.240, 173.242, 176.83(a)(2) | To authorize the transportation in commerce of dry metal catalyst in non-DOT specific bulk packaging. (modes 1, 3, 4)
21683-N | Colep Consumer Products Portugal, S.A | 178.33-7(a), 178.33a-7(a) | To authorize the manufacture, mark, sale, and use of non-DOT specification receptacles with reduced wall thickness. (modes 1, 2, 3, 4, 5)
21685-N | Kit Helicopter Operations LLC | 172.101(j), 172.200, 172.301(c), 175.75, 178.1 | To authorize the transportation in commerce of certain hazardous materials by 14 CFR Part 133 Rotorcraft External Load Operations transporting hazardous materials attached to or suspended from an aircraft in remote areas of the US only, without being subject to hazard communication requirements, quantity limitations and certain loading and stowage requirements. (mode 4)
21686-N | Garmon Distributors LLC | 173.306(a)(1) | To authorize the transportation in commerce of a Division 2.2 gas (helium and air blend) in cylinders exceeding 4 fluid ounces in capacity as a limited quantity. (mode 1)
21687-N | Scientific Design Company, Inc | 173.213 | To authorize the transportation in commerce of waste hazardous substances in non-DOT specification packaging. (mode 1)
21689-N | FIBA Technologies, Inc | 178.35(b) | To authorize the use of statistical sampling for cylinder manufacturing in lieu of chemical analyses being conducted in the United States. (modes 1, 2, 3, 4, 5)
21690-N | Berlin Packaging LLC | 173.185(b)(3)(i), 173.185(b)(3)(iii), 173.185(b)(3)(iii)(A), 173.185(b)(3)(iii)(B), 173.185(b)(6), 173.185(e)(1), 173.185(e)(4), 173.185(f)(1), 173.185(f)(2), 173.185(f)(3), 173.185(f)(3)(iii) | To authorize the manufacture, mark, sale, and use of specially designed packaging for the transportation in commerce of single and multiple lithium batteries and cells, prototype and low production lithium batteries and cells, and damaged, defective, or recalled lithium batteries and cells. (modes 1, 2, 3)
21691-N | Amtrol-Alfa, Metalomecânica, S.A | 173.304a | To authorize the manufacture, mark, sale, and use of a non-DOT specification of a refillable transportable welded cylinder made of carbon steel. (modes 1, 2, 3, 4, 5)
21693-N | KULR Technology Corporation | 172.704, 173.185(f)(1), 173.185(f)(3)(i) | To authorize the manufacture, mark, sale, and use of specially designed thermal runaway shield (TRS) packagings for the transportation in commerce of damaged, defective, or recalled, end of life lithium-ion cells and batteries and lithium metal cells and batteries for recycling, reuse, refurbishment, repurposing, or evaluation. (modes 1, 2)
21694-N | Invinity Energy Systems US Corp | 173.159 | To authorize the transportation in commerce of wet batteries in alternative packaging. (modes 1, 3)
21696-N | U.S. Postal Inspection Service | 175.10(a)(18)(ii) | To authorize the transportation in commerce of up to ten (10) lithium batteries with a capacity between 100Wh and 160Wh aboard commercial passenger aircrafts. (mode 5)

[FR Doc. 2024-00813 Filed 1-17-24; 8:45 am]

BILLING CODE P